DEPARTMENT OF EDUCATION

[Docket No. ED-2013-ICCD-0059]

Agency Information Collection Activities; Submission to the Office of Management and Budget for Review and Approval; Comment Request; Evaluation and Accountability Report for Title II, Part D (Ed Tech) of ESEA

AGENCY: Office of Elementary and Secondary Education (OESE), Department of Education (ED).

ACTION: Notice.

SUMMARY: In accordance with the Paperwork Reduction Act of 1995 (44 U.S.C. chapter 3501 et seq.), ED is proposing an extension of an existing information collection.

DATES: Interested persons are invited to submit comments on or before August 1, 2013.

ADDRESSES: Comments submitted in response to this notice should be submitted electronically through the Federal eRulemaking Portal at http://www.regulations.gov by selecting Docket ID number ED-2013-ICCD-0059 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation and Accountability Report for Title II, Part D (Ed Tech) of ESEA.

OMB Control Number: 1810-0702.

Type of Review: An extension of an existing information collection.

Respondents/Affected Public: State, Local, or Tribal Governments.

Total Estimated Number of Annual Responses: 28.

Total Estimated Number of Annual Burden Hours: 840.

Abstract:

Sections 2402(a)(7) and 2413(b)(4) of ESEA require States and local educational agencies (LEAs) that receive Title II, Part D grant funds to conduct rigorous evaluation of the effectiveness of Title II, Part D formula and competitive grant-funded projects, activities and strategies in integrating technology into curricula and instruction and improving student achievement. The purpose of this reporting requirement is to identify from the results of those evaluations innovative projects, activities and strategies that effectively infuse technology with curriculum and instruction, show evidence of positive impacts for student learning, and can be widely replicated by other State educational agencies and LEAs.

Dated: June 26, 2013.
Tomakie Washington,
Acting Director, Information Collection Clearance Division, Privacy, Information and Records Management Services, Office of Management.

[FR Doc. 2013-15784 Filed 7-1-13; 8:45 am]

BILLING CODE 4000-01-P